FEDERAL RESERVE SYSTEM

Change in Bank Control Notices; Formations of, Acquisitions by, and Mergers of Bank Holding Companies; Correction

This notice corrects a notice (FR Doc. 2014-19075) published on page 47460 of the issue for Wednesday, August 13, 2014.

In the second column, under the Federal Reserve Bank of Atlanta heading, the entry for Trevor R. Burgess, St. Petersburg, Florida, Marcio Camargo, São Paulo, Brazil, Marcelo Lima, São Paulo, Brazil, Erwin Russel, São Paulo, Brazil, CBM Holdings Qualified Family, L.P. Toronto, Ontario, Canada, the General Partner of which is Marcelo Lima, and Amazonite Family Limited Partnership, Ontario, Canada, the General Partner of which is Erwin Russel, and the Amazonite Family Limited Partnership, is revised to read as follows:

1. Trevor R. Burgess, St. Petersburg, Florida; Marcio Camargo, Marcelo Lima, Erwin Russel, all of São Paulo, Brazil; CBM Holdings Qualified Family, L.P. Toronto, Ontario, Canada, with Marcelo Lima as general partner, and C1 Financial Holdings Qualified Family, L.P., Toronto, Ontario, Canada, with Erwin Russel as general partner; to acquire voting shares of C1 Financial, Inc., and thereby indirectly acquire voting shares of C1 Bank, both in St. Petersburg, Florida.

Comments on this application must be received by August 25, 2014.

Board of Governors of the Federal Reserve System, August 14, 2014.
Michael J. Lewandowski,
Associate Secretary of the Board.

[FR Doc. 2014-19619 Filed 8-18-14; 8:45 am]

BILLING CODE 6210-01-P